DEPARTMENT OF ENERGY

Federal Energy Regulatory Commission

Combined Notice of Filings #1

Take notice that the Commission received the following electric corporate filings:

Docket Numbers: EC18-73-000.

Applicants: NextEra Energy Duane Arnold, LLC.

Description: Application for Authorization Under Section 203 of the Federal Power Act and Request for Expedited Action of NextEra Energy Duane Arnold, LLC.

Filed Date: 3/20/18.

Accession Number: 20180320-5259.

Comments Due: 5 p.m. ET 4/10/18.

Docket Numbers: EC18-74-000.

Applicants: Tenaska Hampden Partners, LLC, Berkshire Power Company, LLC.

Description: Joint Application of Tenaska Hampden Partners, LLC, et al. for Approval under Section 203 of the Federal Power Act and Request for Expedited Approval and Privileged Treatment.

Filed Date: 3/20/18.

Accession Number: 20180320-5269.

Comments Due: 5 p.m. ET 4/10/18.

Take notice that the Commission received the following exempt wholesale generator filings:

Docket Numbers: EG18-60-000.

Applicants: Walleye Energy, LLC.

Description: Notice of Self-Certification of Exempt Wholesale Generator Status of Walleye Energy, LLC.

Filed Date: 3/20/18.

Accession Number: 20180320-5234.

Comments Due: 5 p.m. ET 4/10/18.

Docket Numbers: EG18-61-000.

Applicants: Pinal Central Energy Center, LLC.

Description: Notice of Self-Certification of Exempt Wholesale Generator Status of Pinal Central Energy Center, LLC.

Filed Date: 3/20/18.

Accession Number: 20180320-5235.

Comments Due: 5 p.m. ET 4/10/18.

Docket Numbers: EG18-62-000.

Applicants: Trishe Wind Ohio, LLC.

Description: Self-Certification of EG Trishe Wind Ohio, LLC.

Filed Date: 3/22/18.

Accession Number: 20180322-5004.

Comments Due: 5 p.m. ET 4/12/18.

Docket Numbers: EG18-63-000.

Applicants: NRG Cottonwood Tenant LLC.

Description: Notice of Self-Certification of Exempt Wholesale Generator Status of NRG Cottonwood Tenant LLC.

Filed Date: 3/22/18.

Accession Number: 20180322-5263.

Comments Due: 5 p.m. ET 4/12/18.

Take notice that the Commission received the following electric rate filings:

Docket Numbers: ER17-217-005.

Applicants: Jersey Central Power & Light Company, PJM Interconnection, L.L.C.

Description: Compliance filing: JCPL submits a compliance filing per Feb. 20, 2018 order in Docket No. ER17-217 to be effective 6/1/2017.

Filed Date: 3/22/18.

Accession Number: 20180322-5139.

Comments Due: 5 p.m. ET 4/12/18.

Docket Numbers: ER17-1610-003.

Applicants: Southwest Power Pool, Inc.

Description: Compliance filing: Mountrail-Williams Electric Cooperative Formula Rate Compliance Filing to be effective 7/1/2017.

Filed Date: 3/22/18.

Accession Number: 20180322-5243.

Comments Due: 5 p.m. ET 4/12/18.

Docket Numbers: ER18-945-001.

Applicants: Mid-Atlantic Interstate Transmission, LLC, PJM Interconnection, L.L.C.

Description: Tariff Amendment: MAIT submits Supplemental Filing of IA SA No. 4577 in ER18-945 to be effective 5/22/2018.

Filed Date: 3/22/18.

Accession Number: 20180322-5250.

Comments Due: 5 p.m. ET 4/12/18.

Docket Numbers: ER18-938-000.

Applicants: Matador Power Marketing, Inc.

Description: Supplement to February 28, 2018 Matador Power Marketing, Inc. tariff filing.

Filed Date: 3/20/18.

Accession Number: 20180320-5248.

Comments Due: 5 p.m. ET 4/10/18.

Docket Numbers: ER18-1150-000.

Applicants: Trishe Wind Ohio, LLC.

Description: Baseline eTariff Filing: Market-Based Rate Tariff to be effective 5/21/2018.

Filed Date: 3/22/18.

Accession Number: 20180323-5000.

Comments Due: 5 p.m. ET 4/12/18.

Docket Numbers: ER18-1151-000.

Applicants: Public Service Company of Colorado.

Description: § 205(d) Rate Filing: OATT-WAPA-NC NITS 325-0.1.0-NF PtP 425-0.0.0 to be effective 3/22/2018.

Filed Date: 3/22/18.

Accession Number: 20180323-5004.

Comments Due: 5 p.m. ET 4/12/18.

Docket Numbers: ER18-1152-000.

Applicants: Midcontinent Independent System Operator, Inc.

Description: § 205(d) Rate Filing: 2018-03-22_Definition 1.P True-Up Filing to be effective 10/3/2017.

Filed Date: 3/22/18.

Accession Number: 20180322-5110.

Comments Due: 5 p.m. ET 4/12/18.

Docket Numbers: ER18-1153-000.

Applicants: ISO New England Inc.

Description: Compliance filing: Peak Energy Rent Settlement Compliance Filing; ER17-2153-000 et seq; EL16-120-000 to be effective 9/30/2016.

Filed Date: 3/22/18.

Accession Number: 20180322-5150.

Comments Due: 5 p.m. ET 4/12/18.

Docket Numbers: ER18-1154-000.

Applicants: Southern California Edison Company.

Description: Tariff Cancellation: Notices of Cancellation of SGIA and Distrib Serv Agmt LACSD to be effective 11/27/2017.

Filed Date: 3/22/18.

Accession Number: 20180322-5182.

Comments Due: 5 p.m. ET 4/12/18.

Docket Numbers: ER18-1155-000.

Applicants: Summer Energy Northeast, LLC.

Description: Baseline eTariff Filing: Summer Energy Northeast Baseline Tariff Filing to be effective 3/22/2018.

Filed Date: 3/22/18.

Accession Number: 20180322-5192.

Comments Due: 5 p.m. ET 4/12/18.

Docket Numbers: ER18-1156-000.

Applicants: St. Joseph Energy Center, LLC.

Description: Baseline eTariff Filing: St. Joseph Energy Center Reactive Tariff to be effective 5/1/2018.

Filed Date: 3/22/18.

Accession Number: 20180322-5194.

Comments Due: 5 p.m. ET 4/12/18.

Docket Numbers: ER18-1157-000.

Applicants: Idaho Power Company.

Description: Tariff Cancellation: Notice of Cancellation of Rate Schedule 165—Don-Blackfoot Thermal Relay to be effective 5/22/2018.

Filed Date: 3/22/18.

Accession Number: 20180322-5208.

Comments Due: 5 p.m. ET 4/12/18.

Docket Numbers: ER18-1158-000.

Applicants: Louisville Gas and Electric Company.

Description: § 205(d) Rate Filing: OMU Amd and Rstd IA Rate Schedule 505 to be effective 2/23/2018.

Filed Date: 3/22/18.

Accession Number: 20180322-5209.

Comments Due: 5 p.m. ET 4/12/18.

Docket Numbers: ER18-1159-000.

Applicants: Midcontinent Independent System Operator, Inc., Pioneer Transmission, LLC.

Description: § 205(d) Rate Filing: 2018-03-22_Pioneer Attachment O Filing to be effective 6/1/2018.

Filed Date: 3/22/18.

Accession Number: 20180322-5246.

Comments Due: 5 p.m. ET 4/12/18.

Docket Numbers: ER18-1160-000.

Applicants: NRG Cottonwood Tenant LLC.

Description: Baseline eTariff Filing: Application for Market-Based Rate Authorization and Request for Waivers to be effective 4/1/2018.

Filed Date: 3/22/18.

Accession Number: 20180322-5254.

Comments Due: 5 p.m. ET 4/12/18.

Docket Numbers: ER18-1161-000.

Applicants: New York Independent System Operator, Inc., Consolidated Edison Company of New York, Inc.

Description: § 205(d) Rate Filing: NYISO, Con Edison and Bayonne Energy Center Amended/Restated LGIA #1668 to be effective 2/22/2018.

Filed Date: 3/22/18.

Accession Number: 20180322-5256.

Comments Due: 5 p.m. ET 4/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2018.
Nathaniel J. Davis, Sr.,
Deputy Secretary.

[FR Doc. 2018-06620 Filed 3-30-18; 8:45 am]

BILLING CODE 6717-01-P